ENVIRONMENTAL PROTECTION AGENCY

[EPA-HQ-ORD-2006-0384; FRL-8183-4]

Human Studies Review Board; Notice of Public Meeting

AGENCY: Environmental Protection Agency (EPA).

ACTION: Notice.

SUMMARY: On June 6, 2006 (71 FR 32536), the U.S. Environmental Protection Agency's (EPA or Agency) Office of the Science Advisor (OSA) announced a public meeting of the Human Studies Review Board (HSRB) to be held June 28-30, 2006 from 8:30 a.m. to approximately 5 p.m., Eastern Time. Please be advised that the Board will also be meeting on June 27, 2006, beginning at 1 p.m. to approximately 5 p.m., Eastern Time. For further information contact Paul I. Lewis, Designated Federal Officer (DFO), EPA, Office of the Science Advisor, (8105), Environmental Protection Agency, 1200 Pennsylvania Ave., NW., Washington, DC 20460; telephone number: (202) 564-8381; fax: (202) 564 2070; e-mail addresses: lewis.paul@epa.gov.

Dated: June 6, 2006.
George Gray,
EPA Science Advisor.

[FR Doc. E6-9082 Filed 6-9-06; 8:45 am]

BILLING CODE 6560-50-P